DEPARTMENT OF THE INTERIOR

Bureau of Land Management

[BLM_CO_FRN_MO4500182301]

Notice of Availability of the Record of Decision and Approved Resource Management Plan Amendment for the Gunnison Sage-Grouse (Centrocercus minimus), Colorado and Utah

AGENCY: Bureau of Land Management, Interior.

ACTION: Notice of availability.

SUMMARY: The Bureau of Land Management (BLM) announces the availability of the Record of Decision (ROD) for the Approved Resource Management Plan (RMP) Amendment for the Gunnison Sage-Grouse (Centrocercus minimus) located in Southwest Colorado and Southeast Utah. The Colorado and Utah State Directors signed the ROD on October 17, 2024, which constitutes the decision of the BLM and makes the Approved RMP Amendment effective immediately.

DATES: The Colorado and Utah State Directors signed the ROD/Approved RMP Amendment on October 17, 2024.

ADDRESSES: The ROD/Approved RMP Amendment is available online at https://eplanning.blm.gov/eplanning-ui/project/2019031/510. Printed copies of the ROD/Approved RMP Amendment are available for public inspection at the Grand Junction, Uncompahgre, Tres Rios, Gunnison, San Luis Valley, Moab, and Monticello Field Offices or can be provided upon request by contacting Gina Phillips, Project Manager, BLM Colorado, telephone 970-589-9852, BLM Southwest District Office, 2465 S Townsend Ave., Montrose, CO 81401, email BLM_CO_GUSG_RMPA@blm.gov.

A copy of the Protest Resolution Report is available at: https://www.blm.gov/programs/planning-and-nepa/public-participation/protest-resolution-reports.

FOR FURTHER INFORMATION CONTACT: Gina Phillips, Project Manager, telephone 970-589-9852, BLM Colorado, BLM Southwest District Office, 2465 S Townsend Ave., Montrose, CO 81401, email BLM_CO_GUSG_RMPA@blm.gov. Individuals in the United States who are deaf, deafblind, hard of hearing, or have a speech disability may dial 711 (TTY, TDD, or TeleBraille) to access telecommunications relay services for contacting Ms. Phillips. Individuals outside the United States should use the relay services offered within their country to make international calls to the point-of-contact in the United States.

SUPPLEMENTARY INFORMATION: The Approved RMP Amendment for the Gunnison Sage-Grouse changes the following existing plans:

Colorado:

• Canyons of the Ancients National Monument RMP (2010)

• Dominguez-Escalante National Conservation Area RMP (2017)

• Grand Junction Field Office RMP (2015)

• Gunnison Gorge National Conservation Area RMP (2004)

• Gunnison Resource Area RMP (1993)

• McInnis Canyons National Conservation Area RMP (2004)

• San Luis Resource Area RMP (1991)

• Tres Rios Field Office RMP (2015)

• Uncompahgre Field Office RMP (2020)

Utah:

• Moab Field Office RMP (2008)

• Monticello Field Office RMP (2008)

The Gunnison Sage-Grouse Approved RMP Amendment modifies management decisions and actions to promote Gunnison sage-grouse recovery and maintain and enhance habitat, as identified in the 2020 U.S. Fish and Wildlife Service (USFWS) Recovery Plan, across the eight currently recognized populations in southwest Colorado and southeast Utah. Gunnison sage-grouse is federally listed as a threatened species under the Endangered Species Act (16 U.S.C. 1531-1544). The planning area spans portions of 19 Colorado Counties: Alamosa, Archuleta, Conejos, Costilla, Delta, Dolores, Garfield, Gunnison, Hinsdale, La Plata, Mesa, Mineral, Montezuma, Montrose, Ouray, Rio Grande, Saguache, San Juan, and San Miguel; and two Utah Counties: Grand and San Juan, and encompasses approximately 25 million acres of public land. The Approved RMP Amendment makes decisions for approximately 2,182,660 acres of BLM-managed surface lands (1,951,440 acres in Colorado and 231,220 acres in Utah) and 2,852,390 acres of Federal subsurface mineral estate (2,563,220 acres in Colorado and 289,170 acres in Utah). The alternative selected as the Approved RMP Amendment is a clarified version of Alternative F, as described in the Proposed RMP Amendment. The Approved RMP Amendment focuses conservation measures on occupied and unoccupied habitat. For all populations, the Approved RMP Amendment would apply buffers to protect all lek statuses (active, inactive, historic, unknown, occupied, and unoccupied). The Approved RMP Amendment includes a 1-mile adjacent non-habitat buffer around occupied and unoccupied habitat areas, where minimization measures could apply. For Recreation and Lands and Realty program areas, the Approved RMP Amendment applies management designed for the Gunnison Basin population and different management designed for the seven satellite populations (those outside of the Gunnison Basin). For all populations, the Approved RMP Amendment manages resource uses with an objective for no increase in net surface disturbance in habitat. Also, the Approved RMP Amendment closes all areas with no and low potential for fluid mineral leasing in both occupied and unoccupied habitat management areas.

The Approved RMP Amendment designates three new Areas of Critical Environmental Concern: Dry Creek Basin (San Miguel population; 10,920 acres), Sapinero Mesa (Gunnison Basin population; 17,240 acres), and Chance Gulch (Gunnison Basin population; 13,150 acres), specifically for the protection and enhancement of Gunnison sage-grouse habitat. One new Backcountry Conservation Area (referred to as Sugar Creek Backcountry Conservation Area in the Gunnison Basin population; 17,210 acres) is designated to preserve intact, public lands and priority habitat for wildlife, while offering primitive recreation opportunities.

These landscape level management decisions provide habitat conservation and reduction of threats to Gunnison sage-grouse populations. They reflect a long-term commitment by the BLM and cooperating agencies for conservation of the species by continuing protection, restoration, and enhancement of Gunnison sage-grouse habitat.

The BLM published a notice of intent in the Federal Register to initiate the public scoping period for this planning effort on July 6, 2022 (87 FR 40262). After preparing the Draft RMP Amendment/EIS in coordination with 30 cooperating agencies and working with Tribes, the BLM announced the 90-day comment period through publication of its Notice of Availability in the Federal Register on November 9, 2023 (88 FR 77353). Based on public comments received on the Draft RMP Amendment/Draft EIS, the BLM updated the Proposed RMP Amendment/Final EIS (Alternative F) by incorporating management actions and allowable uses from Alternatives A, B, C, D and E, including corrections and rewording for clarification of purpose and intent.

The BLM provided the Proposed RMP Amendment on July 5, 2024, for a 30-day protest period. The BLM received five unique protest letter submissions. Three letters contained valid protest issues. After careful review of the responses to the valid protest issues in the protest resolution report, the BLM Director concluded that the BLM Colorado and Utah State Directors followed the applicable laws, regulations, and policies, and considered all relevant resource information and public input. The BLM Director dismissed the protests, and that decision is the final decision of the U.S. Department of the Interior. Responses to protest issues are compiled and documented in a Protest Resolution Report (see ADDRESSES).

The BLM provided the Proposed RMP Amendment to the Governors of Colorado and Utah for a 60-day Governor's consistency review. The State of Utah identified potential inconsistencies with State policy and the State Resource Management Plan. In response, the BLM modified a travel management action and followed up with a response letter to address additional topics of concern. The State of Colorado did not identify any inconsistencies with State or local plans, policies or programs identified during the Governor's consistency review of the Proposed RMP Amendment.

(Authority: 40 CFR 1506.6; 43 CFR 1610.5-1)

Douglas J. Vilsack,
BLM Colorado State Director.

[FR Doc. 2024-24335 Filed 10-21-24; 8:45 am]

BILLING CODE 4331-16-P